CORPORATION FOR NATIONAL AND COMMUNITY SERVICE

Privacy Act of 1974; System of Records

AGENCY: Corporation for National and Community Service.

ACTION: Notice of new systems of records.

SUMMARY: In accordance with the Privacy Act of 1974, as amended, the Corporation for National and Community Service (operating as AmeriCorps) proposes to establish a new system of records titled CNCS-11-CPO-AHB-AmeriCorps Health Benefits System of Records. AmeriCorps will use this system of records to track, store, manage, and evaluate the paper and electronic records associated with the healthcare benefits offered to AmeriCorps VISTA, AmeriCorps NCCC, and AmeriCorps FEMA Corps members (Members). The records in the system will include information about the enrollment, other insurance coverage, bank account, and medical bills and related healthcare information of the Members, and information about Members' accidents or injuries which may require medical care.

DATES: You may submit comments until August 28, 2023. Unless comments are received that would require a revision, this new system of records will become effective on August 28, 2023.

ADDRESSES: You may submit comments identified by system name and number by any of the following methods:

1. Electronically through www.regulations.gov. Once you access www.regulations.gov, find the web page for this SORN by searching for CNCS-11-CPO-AHB.

2. By email at privacy@cns.gov.

3. By mail: AmeriCorps Attn: Chief Privacy Officer, OIT, 250 E St. SW, Washington, DC 20525.

4. By hand delivery or courier to AmeriCorps at the address for mail between 9:00 a.m. and 4:00 p.m. Eastern Standard Time, Monday through Friday, except for Federal holidays.

Please note that all submissions received may be posted without change to www.regulations.gov, including any personal information. Commenters should be careful to include in their comments only information that they wish to make publicly available.

FOR FURTHER INFORMATION CONTACT: If you have general questions about the system of records, you may call ZhuoHong Liu at 202-938-7868, email her at zliu@cns.gov or mail them to the address in the ADDRESSES section above. Please include the system of record's name and number.

SUPPLEMENTARY INFORMATION:

I. Background

The system will enable AmeriCorps to administer and manage the healthcare benefit and medical records of its Members and provide enhanced streamlined service. This notice of a new system of records, as required by 5 U.S.C. 552a, fully complies with all Office of Management and Budget policies.

The website for AmeriCorps VISTA Members' health benefits plans is currently https://americorpsvista.imglobal.com/. The website for AmeriCorps NCCC and AmeriCorps FEMA Corps' health benefits plan is currently https://americorpsnccc.imglobal.com/.

II. Privacy Act

The Privacy Act codifies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents.

AmeriCorps will share information from the system in accordance with the requirements of the Privacy Act. A full list of routine uses is included in the routine uses section of the document published with this notice.

In accordance with 5 U.S.C. 552a(r), AmeriCorps has provided a report of this system of records to the Office of Management and Budget and to Congress.

Below is the description of CNCS-11-CPO-AHB-AmeriCorps Health Benefits System.

SYSTEM NAME AND NUMBER:

CNCS-11-CPO-AHB-AmeriCorps Health Benefits System.

SECURITY CLASSIFICATION:

Unclassified.

SYSTEM LOCATION:

Chief of Program Operations Immediate Office, AmeriCorps, 250 E Street SW, Washington, DC 20525.

SYSTEM MANAGER(S):

AHB Information System Owner, Chief of Program Operations Immediate Office, AmeriCorps, 250 E Street SW, Washington, DC 20525.

AUTHORITY FOR MAINTENANCE OF THE SYSTEM:

42 U.S.C. 4955—Support services; 42 U.S.C. 12618—Authorized benefits for Corps members; and 45 CFR 2556—Volunteer in Service to America.

PURPOSE(S) OF THE SYSTEM:

AmeriCorps and its contractors use the system to track, store, manage, and evaluate the records associated with the health benefits offered to the members of AmeriCorps VISTA, AmeriCorps NCCC, and AmeriCorps FEMA Corps.

CATEGORIES OF INDIVIDUALS COVERED BY THE SYSTEM:

The system contains records about (1) current and former Members, (2) individuals who maintained an insurance policy that covered a Member, and (3) individuals connected to an accident or injury that resulted in a Member seeking medical care.

CATEGORIES OF RECORDS IN THE SYSTEM:

Records in the system may include, but are not limited to, names, genders, dates of birth, addresses, emails, phone numbers, National Service Participant Identification (NSPID) Numbers, Exemption Certification Numbers, insurance IDs, benefit information, information about additional insurance coverage, bank account information, services dates and roles, medical bills and related healthcare information, and information about accidents and injuries that resulted in a Member seeking medical care.

RECORD SOURCE CATEGORIES:

The sources of records in the system may include, but are not limited to, Members and their representatives, AmeriCorps databases, healthcare providers, other insurance companies, individuals connected to accidents and injuries involving Members, contractors, and subcontractors.

ROUTINE USES OF RECORDS MAINTAINED IN THE SYSTEM, INCLUDING CATEGORIES OF USERS AND PURPOSES OF SUCH USES:

In addition to those disclosures generally permitted under 5 U.S.C. 552a(b), all or a portion of the records or information contained in this system of records may be disclosed outside of AmeriCorps as a routine use pursuant to 5 U.S.C. 552a(b)(3) under the circumstances or for the purposes described below, to the extent such disclosures are compatible with the purposes for which the information was collected:

1. To healthcare providers and entities, insurance companies, and their authorized representatives to provide healthcare and services and coordinate benefits.

2. To the Office of the President, a Member of Congress, or their personnel in response to a request made on behalf of, and at the request of, the individual who is the subject of the record. These advocates will receive the same records that individuals would have received if they had filed their own request.

3. To any component of the Department of Justice for the purpose of representing AmeriCorps or its components, officers, employees, or members in pending or potential litigation to which the record is pertinent.

4. In an appropriate proceeding before a court, judicial, administrative, or adjudicative body, or official, when AmeriCorps or another agency representing AmeriCorps determines the records are relevant and necessary to the proceeding, or in an appropriate proceeding before an administrative or adjudicative body when the adjudicator determines the records to be relevant to the proceeding.

5. To a Federal or State agency, judicial, administrative, or adjudicative body, another party, or their representative to a legal matter, or witness when (a) the Federal Government is a party or potential party to a judicial, administrative, or adjudicative proceeding and (b) the record is both necessary and relevant or potentially relevant to that proceeding.

6. To prospective claimants and their attorneys to negotiate a settlement of an actual or prospective claim against AmeriCorps or its current or former employees, in advance of the initiation of a formal legal proceeding.

7. To an arbiter, mediator, or another individual authorized to investigate or settle a grievance, complaint, or appeal filed by an individual who is the subject of, or party to, the record.

8. To any agency, entity, or individual when necessary to acquire information relevant to an investigation.

9. To an appropriate Federal, State, local, Tribal, international, or foreign law enforcement agency or other appropriate authority charged with investigating or prosecuting a violation or enforcing or implementing a statute, rule, regulation, or order, when a record, either on its face or in conjunction with other information, indicates a violation or potential violation of civil or criminal law or regulatory violations.

10. To a former AmeriCorps employee for the purpose of responding to an official inquiry by a Federal, State, local, Territorial, or Tribal entity or professional licensing authority, for the purpose of facilitating communications with a former employee that may be necessary for personnel-related or other official purposes where the AmeriCorps requires information and/or consultation assistance from the former employee regarding a matter within that person's former area of responsibility.

11. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals.

12. To OPM for the purpose of addressing civilian pay and leave, benefits, retirement deduction, and any other information necessary for the OPM to carry out its legally authorized government-wide personnel management functions and studies.

13. To appropriate agencies, entities, and persons when:

a. AmeriCorps suspects or has confirmed that there has been a breach of the system of records;

b. AmeriCorps has determined that as a result of the suspected or confirmed breach there is a risk of harm to individuals, AmeriCorps (including its information systems, programs, and operations), the Federal Government, or national security; and

c. The disclosure made to such agencies, entities, and persons is reasonably necessary to assist in connection with AmeriCorps' efforts to respond to the suspected or confirmed breach or to prevent, minimize, or remedy such harm.

14. To another Federal agency or Federal entity, when AmeriCorps determines that information from the system of records is reasonably necessary to assist the recipient agency or entity in:

a. Responding to a suspected or confirmed breach or

b. Preventing, minimizing, or remedying the risk of harm to individuals, the recipient agency or entity (including its information systems, programs, and operations), the Federal Government, or national security, resulting from a suspected or confirmed breach.

15. To the National Archives and Records Administration (NARA) as needed to assist AmeriCorps with records management, conduct inspections of AmeriCorps records management practices, and carry out other activities required by 44 U.S.C. 2904 and 2906.

16. To respond to a Privacy Act request per the requirements in 45 CFR part 2508.

17. To agency contractors, grantees, interns, and other authorized individuals engaged to assist the agency in the performance of a project, contract, service, grant, cooperative agreement, or other activity when it requires access to the records to accomplish an agency function, task, or assignment. Individuals provided information under this routine use are subject to the same Privacy Act requirements and limitations on disclosure as are applicable to AmeriCorps employees.

18. To the Equal Employment Opportunity Commission when requested in connection with investigations into alleged or possible discrimination practices in the Federal sector, compliance by Federal agencies with the Uniform Guidelines on Employee Selection Procedures, or other functions vested in the Commission and to otherwise ensure compliance with the provisions of 5 U.S.C. 7201.

19. To an agency or organization to audit or oversee AmeriCorps' or a vendor's operations as authorized by law, but only such information as is necessary and relevant to such audit or oversight function.

20. To any official or designee charged with the responsibility to conduct qualitative assessments at a designated statistical agency and other well established and trusted public or private research organizations, academic institutions, or agencies for an evaluation, study, research, or other analytical or statistical purpose.

POLICIES AND PRACTICES FOR STORAGE OF RECORDS:

Paper records are stored in locked rooms, file cabinets, and desks. Electronic records and backups are stored on secure servers and encrypted media, including computers and network drives.

POLICIES AND PRACTICES FOR RETRIEVAL OF RECORDS:

Records in the system may be retrieved by the name, phone number, email, date of birth, IMG Member ID, or NSPID Number of Members.

POLICIES AND PRACTICES FOR RETENTION AND DISPOSAL OF RECORDS:

The system's record schedule is currently under review per amendment to title 36, chapter XII, subchapter B, dated June 5, 2023, and product records are being appraised to determine their current value. Until the records schedule is approved by NARA, Federal records would be maintained as retrievable and useable indefinitely.

ADMINISTRATIVE, TECHNICAL, AND PHYSICAL SAFEGUARDS:

AmeriCorps safeguards records in this system according to applicable laws, rules, and policies, including all applicable AmeriCorps systems security and access policies. AmeriCorps has strict controls in place to minimize the risk of compromising the information that is being stored. Access to the computer system containing the records in this system is limited to those individuals who have a need to know the information for the performance of their official duties and who have appropriate clearances or permissions. Paper records are maintained in locked rooms, file cabinets, and desks when not in use. Electronic records are maintained in accordance with National Institute of Standards and Technology Special Publication 800-53 Rev.5, Security and Privacy Controls for Federal Information Systems and Organizations or the updated equivalent.

RECORD ACCESS PROCEDURES:

In accordance with 45 CFR part 2508—Implementation of the Privacy Act of 1974, as amended, individuals wishing to access their own records as stored within the system of records may contact the FOIA Officer/Privacy Act Officer by sending (1) an email to FOIA@cns.gov or (2) a letter addressed to the System Manager, attention Privacy Inquiry. Individuals who make a request must include enough identifying information (i.e., full name, current address, date, and signature) to locate their records, indicate that they want to access their records, and be prepared to confirm their identity as required by 45 CFR part 2508.

CONTESTING RECORD PROCEDURES:

All requests to contest or amend information maintained in the system will be directed to the FOIA Officer/Privacy Act Officer. Individuals who make a request must include enough identifying information to locate their records, in the manner described above in the Record Access Procedures section. Requests should state clearly and concisely what information is being contested, the reasons for contesting it, and the proposed amendment to the information.

NOTIFICATION PROCEDURES:

Any individual desiring to contest or amend information not subject to exemption may contact the FOIA Officer/Privacy Act Officer via the contact information in the Record Access Procedures section. Individuals who make a request must include enough identifying information to locate their records, indicate that they want to be notified whether their records are included in the system, and be prepared to confirm their identity as required by 45 CFR part 2508.

EXEMPTIONS PROMULGATED FOR THE SYSTEM:

None.

HISTORY:

None.

Prabhjot Bajwa,
Senior Agency Official for Privacy and Chief Information Officer.

[FR Doc. 2023-16026 Filed 7-27-23; 8:45 am]

BILLING CODE 6050-28-P